DEPARTMENT OF COMMERCE

National Oceanic and Atmospheric Administration

[I.D. 122106C]

Marine Mammals; File No. 555-1870

AGENCY: National Marine Fisheries Service (NMFS), National Oceanic and Atmospheric Administration (NOAA), Commerce.

ACTION: Notice; receipt of application.

SUMMARY: Notice is hereby given that James T. Harvey, Ph.D., Moss Landing Marine Laboratories, 8272 Moss Landing Road, Moss Landing, CA 95039, has applied in due form for a permit to conduct scientific research on harbor seals (Phoca vitulina).

DATES: Written, telefaxed, or e-mail comments must be received on or before January 29, 2007.

ADDRESSES: The application and related documents are available for review upon written request or by appointment (See SUPPLEMENTARY INFORMATION).

Written comments or requests for a public hearing on this application should be mailed to the Chief, Permits, Conservation and Education Division, F/PR1, Office of Protected Resources, NMFS, 1315 East-West Highway, Room 13705, Silver Spring, MD 20910. Those individuals requesting a hearing should set forth the specific reasons why a hearing on this particular request would be appropriate.

Comments may also be submitted by facsimile at (301)427-2521, provided the facsimile is confirmed by hard copy submitted by mail and postmarked no later than the closing date of the comment period.

Comments may also be submitted by e-mail. The mailbox address for providing e-mail comments is NMFS.Pr1Comments@noaa.gov. Include in the subject line of the e-mail comment the following document identifier: File No. 555-1870.

FOR FURTHER INFORMATION CONTACT: Amy Sloan or Dr. Tammy Adams, (301)713-2289.

SUPPLEMENTARY INFORMATION: The subject permit is requested under the authority of the Marine Mammal Protection Act of 1972, as amended (MMPA; 16 U.S.C. 1361 et seq.), and the regulations governing the taking and importing of marine mammals (50 CFR part 216).

The applicant proposes to examine the biology and ecology of harbor seals and monitor health and condition of coastal populations of harbor seals in California, Oregon, Washington, and Alaska over a 5-year period. The primary hypotheses are: (1) actual abundance can be determined using aerial surveys and a correction factor, and distinct stocks exist latitudinally; (2) seals are a major (>5%) source of natural mortality for nearshore fishes and cephalopods; (3) pollutants and anthropogenic inputs are compromising seal health; (4) human disturbance causes increased energetic costs and seals can have significant effects on fisheries; (5) dispersal of juvenile harbor seals increases survival; and (6) male harbor seals establish underwater territories and maintain hierarchies using underwater vocalizations and aggression. To test these hypotheses researchers will capture a maximum of 670 harbor seals annually. An additional 2,910 individuals may be taken annually via Level B harassment by incidental disturbance during capture or scat collection and exposure to playback of vocalizations. Animals captured would have some or all of the following procedures done: mass and morphometrics, blubber depth and biopsy, lavage/enema, flipper tagging and instrument application, blood sample, swabs, and skin and hair sampling. The applicant requests up to two incidental mortalities per year.

Concurrent with the publication of this notice in the Federal Register, NMFS is forwarding copies of this application to the Marine Mammal Commission and its Committee of Scientific Advisors.

Documents may be reviewed in the following locations:

Permits, Conservation and Education Division, Office of Protected Resources, NMFS, 1315 East-West Highway, Room 13705, Silver Spring, MD 20910; phone (301) 713-2289; fax (301) 427-2521; and

Northwest Region, NMFS, 7600 Sand Point Way NE, BIN C15700, Bldg. 1, Seattle, WA 98115-0700; phone (206) 526-6150; fax (206) 526-6426;

Alaska Region, NMFS, P.O. Box 21668, Juneau, AK 99802-1668; phone (907) 586-7221; fax (907) 586-7249; and

Southwest Region, NMFS, 501 West Ocean Blvd., Suite 4200, Long Beach, CA 90802-4213; phone (562) 980-4001; fax (562)980-4018.

Dated: December 20, 2006.
P. Michael Payne,
Chief, Permits, Conservation and Education Division, Office of Protected Resources, National Marine Fisheries Service.

[FR Doc. E6-22332 Filed 12-28-06; 8:45 am]

BILLING CODE 3510-22-S